DEPARTMENT OF COMMERCE

Foreign-Trade Zones Board

[S-159-2021]

Foreign-Trade Zone 18—San Jose, California; Application for Expansion of Subzone 18F; Lam Research Corporation, Livermore, California

An application has been submitted to the Foreign-Trade Zones (FTZ) Board by the City of San Jose, grantee of FTZ 18, requesting expanded subzone status for a facility of Lam Research Corporation, located in Livermore, California. The application was submitted pursuant to the provisions of the Foreign-Trade Zones Act, as amended (19 U.S.C. 81a-81u), and the regulations of the FTZ Board (15 CFR part 400). It was formally docketed on October 21, 2021.

Subzone 18F—Site 5 is currently located at 7364 Marathon Drive (4.4 acres) and at 7150 Patterson Pass Road, Unit G, (2.9 acres) in Livermore and the site expires on December 31, 2021. (A minor boundary modification was approved on March 26, 2020, to remove Site 5 from the subzone after a period of time.) The applicant is now requesting authority to re-designate a portion of Site 5 that would consist of 4.4 acres located at 7364 Marathon Drive in Livermore. The expanded subzone would be subject to the existing activation limit of FTZ 18.

In accordance with the FTZ Board's regulations, Qahira El-Amin of the FTZ Staff is designated examiner to review the application and make recommendations to the Executive Secretary.

Public comment is invited from interested parties. Submissions shall be addressed to the FTZ Board's Executive Secretary and sent to: ftz@trade.gov. The closing period for their receipt is December 6, 2021. Rebuttal comments in response to material submitted during the foregoing period may be submitted during the subsequent 15-day period to December 21, 2021.

A copy of the application will be available for public inspection in the “Online FTZ Information Section” section of the FTZ Board's website, which is accessible via www.trade.gov/ftz. Additional information regarding Subzone 18F is available via the FTZ Board's website.

For further information, contact Qahira El-Amin at Qahira.El-Amin@trade.gov.

Dated: October 21, 2021.
Andrew McGilvray,
Executive Secretary.

[FR Doc. 2021-23374 Filed 10-26-21; 8:45 am]

BILLING CODE 3510-DS-P